DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by October 8, 2003. The Office of Management and Budget has approved this information collection requirement through September 30, 2003.

Title; Form; and OMB Number: Record of Military Processing, Armed Forces of the United States; DD Form 1966; OMB Number 0704-0173.

Type of Request: Extension.

Number of Respondents: 510,000.

Responses Per Respondent: 1.

Annual Responses: 510,000.

Average Burden Per Response: 20 minutes.

Annual Burden Hours: 170,000.

Needs and Uses: Title 10 U.S.C., sections 504, 505, 506, 12102, and 520a, Title 14 U.S.C., sections 351 and 632, and Title 50 U.S.C., section 451, require applicants to meet standards for enlistment into the Armed Forces. This information collection is the basis for determining eligibility of applicants for enlistment in the Armed Forces and is needed to verify data given by the applicant and to determine his/her qualification of enlistment. The information collected aids in the determination of qualifications, term of service, and grade in which a person, if eligible, will enter active duty or reserve status.

Affected Public: Individuals or Households.

Frequency: On occasion.

Respondent's Obligation: Required To Obtain or Retain Benefits.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Ms. Jacqueline Davis.

Written requests for copies of the information collection proposal should be sent to Ms. Davis, WHS/DIOR, 1215 Jefferson Davis Highway, Suite 1204, Arlington, VA 22202-4302.

Dated: August 29, 2003.
Patricia L. Toppings,
Alternate OSD Federal Register Liaison Officer, Department of Defense.

[FR Doc. 03-22685 Filed 9-5-03; 8:45 am]

BILLING CODE 5001-08-M